DEPARTMENT OF ENERGY

Federal Energy Regulatory Commission

Combined Notice of Filings #1

Take notice that the Commission received the following electric corporate filings:

Docket Numbers: EC14-49-000.

Applicants: Twin Eagle Resource Management, LLC, Enserco Energy LLC, GSO Capital Partners LP, Five Point Capital Partners LLC.

Description: Notice of Consummation of Transaction of Twin Eagle Resource Management, LLC.

Filed Date: 3/20/14.

Accession Number: 20140320-5131.

Comments Due: 5 p.m. ET 4/10/14.

Take notice that the Commission received the following electric rate filings:

Docket Numbers: ER12-2289-001.

Applicants: Southwest Power Pool, Inc.

Description: Southwest Power Pool, Inc. submits tariff filing per 35: Empire Formula Rate Compliance Filing in Docket ER12-2289 to be effective 1/1/2013.

Filed Date: 3/20/14.

Accession Number: 20140320-5097.

Comments Due: 5 p.m. ET 4/10/14.

Docket Numbers: ER13-255-000.

Applicants: NV Energy, Inc.

Description: NV Energy, Inc. submits tariff filing per 35.19a(b): Transmission Rate Case—NPC Refund Report to be effective N/A.

Filed Date: 3/21/14.

Accession Number: 20140321-5107.

Comments Due: 5 p.m. ET 4/11/14.

Docket Numbers: ER14-1133-001.

Applicants: Cottonwood Energy Company LP.

Description: Cottonwood Energy Company LP submits tariff filing per 35: Revision to Amendment to MBR to be effective 1/23/2014.

Filed Date: 3/21/14.

Accession Number: 20140321-5117.

Comments Due: 5 p.m. ET 4/11/14.

Docket Numbers: ER14-1378-001.

Applicants: PJM Interconnection, L.L.C.

Description: PJM Interconnection, L.L.C. submits tariff filing per 35.17(b): Errata to Correct Notice of Cancellation for SA No. 3594 (metadata) to be effective 4/1/2014.

Filed Date: 3/21/14.

Accession Number: 20140321-5115.

Comments Due: 5 p.m. ET 4/11/14.

Docket Numbers: ER14-1486-000; ER14-1487-000; ER14-1488-000; ER14-1489-000; ER14-1490-000; ER14-1491-000; ER14-1492-000; ER14-1493-000; ER14-1494-000; ER14-1495-000; ER14-1496-000; ER14-1497-000; ER14-1498-000; ER14-1499-000; ER14-1500-000; ER14-1501-000; ER14-1502-000; ER14-1503-000; ER14-1504-000.

Applicants: Desert Sunlight 250, LLC, Desert Sunlight 300, LLC, Diablo Winds, LLC, FPL Energy Cabazon Wind, LLC, FPL Energy Green Power Wind, LLC, FPL Energy Montezuma Wind, LLC, FPL Energy New Mexico Wind, LLC, Genesis Solar, LLC, Hatch Solar Energy Center I, LLC, High Winds, LLC, Mountain View Solar, LLC, NextEra Energy Montezuma II Wind, LLC, North Sky River Energy, LLC, Perrin Ranch Wind, LLC, Red Mesa Wind, LLC, Sky River LLC, Vasco Winds, LLC, Windpower Partners 1993, LLC, NextEra Energy Power Marketing, LLC.

Description: Amendment to the March 14, 2014 NextEra Companies tariff Order No. 784 Compliance Filings to be effective 3/14/2014.

Filed Date: 3/21/14.

Accession Number: 20140321-5132.

Comments Due: 5 p.m. ET 3/31/14.

Docket Numbers: ER14-1540-000.

Applicants: PJM Interconnection, L.L.C.

Description: PJM Interconnection, L.L.C. submits tariff filing per 35.13(a)(2)(iii: Original Service Agreement No. 3780; Queue No. W4-045 to be effective 2/21/2014.

Filed Date: 3/20/14.

Accession Number: 20140320-5081.

Comments Due: 5 p.m. ET 4/10/14.

Docket Numbers: ER14-1541-000.

Applicants: International Transmission Company.

Description: International Transmission Company submits tariff filing per 35.13(a)(2)(iii: Filing of a CIAC Agreement to be effective 5/20/2014.

Filed Date: 3/20/14.

Accession Number: 20140320-5096.

Comments Due: 5 p.m. ET 4/10/14.

Docket Numbers: ER14-1542-000.

Applicants: Southern California Edison Company.

Description: Southern California Edison Company submits tariff filing per 35.13(a)(2)(iii: GIA and Distribution Service Agreement with Apex Natural Renewable Generation to be effective 3/22/2014.

Filed Date: 3/21/14.

Accession Number: 20140321-5009.

Comments Due: 5 p.m. ET 4/11/14.

Docket Numbers: ER14-1543-000.

Applicants: Southern California Edison Company.

Description: Southern California Edison Company submits tariff filing per 35.13(a)(2)(iii: Amended CLGIA and Distribution Service Agreement with RE Columbia, LLC to be effective 3/22/2014.

Filed Date: 3/21/14.

Accession Number: 20140321-5010.

Comments Due: 5 p.m. ET 4/11/14.

Docket Numbers: ER14-1544-000.

Applicants: California Independent System Operator Corporation.

Description: Amended Petition for Distribution of Forfeited Funds Collected from Generator Interconnection Customers of California Independent System Operator Corporation.

Filed Date: 3/20/14.

Accession Number: 20140320-5138.

Comments Due: 5 p.m. ET 4/10/14.

Docket Numbers: ER14-1545-000.

Applicants: Southwest Power Pool, Inc.

Description: Southwest Power Pool, Inc. submits tariff filing per 35.13(a)(2)(iii: 2804 Basin Electric Power Coop. & WAPA-UGPR Meter Agent Agr. to be effective 3/1/2014.

Filed Date: 3/21/14.

Accession Number: 20140321-5043.

Comments Due: 5 p.m. ET 4/11/14.

Docket Numbers: ER14-1546-000.

Applicants: Midcontinent Independent System Operator, Inc.

Description: Midcontinent Independent System Operator, Inc. submits tariff filing per 35.13(a)(2)(iii: 2014-03-21_SA 2646 NIPSCO—Exelon TUA to be effective 3/22/2014.

Filed Date: 3/21/14.

Accession Number: 20140321-5045.

Comments Due: 5 p.m. ET 4/11/14.

Docket Numbers: ER14-1547-000.

Applicants: Spinning Spur Wind Two LLC.

Description: Spinning Spur Wind Two LLC submits tariff filing per 35.15: Notice of Cancellation and Request for Waiver of Spinning Spur Wind Two, LLC to be effective 3/21/2014.

Filed Date: 3/21/14.

Accession Number: 20140321-5054.

Comments Due: 5 p.m. ET 4/11/14.

Docket Numbers: ER14-1548-000.

Applicants: Copper Mountain Solar 3, LLC.

Description: Copper Mountain Solar 3, LLC submits tariff filing per 35.12: Copper Mountain Solar 3, LLC FERC Electric Tariff No. 1 Market-Based Rates Tariff to be effective 4/15/2014.

Filed Date: 3/21/14.

Accession Number: 20140321-5079.

Comments Due: 5 p.m. ET 4/11/14.

Docket Numbers: ER14-1549-000.

Applicants: Virginia Electric and Power Company, PJM Interconnection, L.L.C.

Description: Virginia Electric and Power Company submits tariff filing per 35.13(a)(2)(iii: Dominion submits Revised Dep. Rates for PJM OATT Att H-16A Formula Trans Rate to be effective 4/1/2013.

Filed Date: 3/21/14.

Accession Number: 20140321-5085.

Comments Due: 5 p.m. ET 4/11/14.

Docket Numbers: ER14-1550-000.

Applicants: Puget Sound Energy, Inc.

Description: Puget Sound Energy, Inc. submits tariff filing per 35.12: Tacoma Interconnection SA No. 698 to be effective 2/3/2014.

Filed Date: 3/21/14.

Accession Number: 20140321-5089.

Comments Due: 5 p.m. ET 4/11/14.

Docket Numbers: ER14-1551-000.

Applicants: Midcontinent Independent System Operator, Inc.

Description: Midcontinent Independent System Operator, Inc. submits tariff filing per 35.13(a)(2)(iii: 2014-03-21_SA 824 Entergy NRG Notice of Succession to be effective 12/19/2013.

Filed Date: 3/21/14.

Accession Number: 20140321-5133.

Comments Due: 5 p.m. ET 4/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2014.
Nathaniel J. Davis, Sr.,
Deputy Secretary.

[FR Doc. 2014-06984 Filed 3-27-14; 8:45 am]

BILLING CODE 6717-01-P